DEPARTMENT OF TRANSPORTATION

Office of the Secretary

49 CFR Part 1

[Docket OST-1999-6189]

RIN: 9991-AA28

Organization and Delegation of Powers and Duties; Delegation to the Commandant, United States Coast Guard

AGENCY: Office of the Secretary, DOT.

ACTION: Final rule.

SUMMARY: The Secretary of Transportation is delegating to the Commandant, United States Coast Guard, his authority to accept volunteer services and to provide benefits to the dependents of military members who are separated for dependent abuse.

EFFECTIVE DATE: August 26, 2002.

ADDRESSES: Material received from the public, as well as documents mentioned in this preamble as being available in the docket, are part of docket OST-2002-6189 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, contact LT Rick Evans, telephone 202-267-2335, U.S. Coast Guard, 2100 Second Street SW., Washington DC 20593-0001. If you have questions on viewing the docket, call Dorothy Beard, Chief, Dockets, Department of Transportation, at 202-366-5149.

SUPPLEMENTARY INFORMATION: The Secretary of Transportation, as Secretary of the Department in which the Coast Guard is operating, is vested with the authority to accept voluntary services under 10 U.S.C. 1588. Section 1588 authorizes the Secretary to accept, from any person, certain voluntary services in support of Coast Guard activities. This is an exception to the general prohibition against accepting such services in 31 U.S.C. 1342. The Secretary's authority to accept voluntary services for museums and family support programs operated by the Coast Guard under section 1588 was delegated to the Commandant in 49 CFR 1.46(rr). Subsequent to the delegation of this authority to the Commandant, however, Congress significantly expanded the areas in which voluntary services could be accepted, to include natural resources programs and a variety of personnel support and recreation programs. The present change makes it clear that all of the Secretary's authorities and functions under section 1588 are delegated to the Commandant.

This rule also delegates to the Commandant the Secretary's authority under 10 U.S.C. 1059, which authorizes the Secretary to establish a program to pay monthly transitional compensation to dependents of Coast Guard members who were separated for dependent abuse offenses.

These delegations provide the Commandant of the Coast Guard with the ability to exercise all of the Secretary's authority under 10 U.S.C. 1588 and 1059. This rule does not substantially change the organization or authorities of the Department of Transportation or the Coast Guard.

The Department publishes this rule as a final rule, effective on the date of publication. Because these amendments relate to departmental management, organization, procedure, and practice, notice and comment are unnecessary under 5 U.S.C. 553(b). Further, because this rule does not substantially change the authorities or functions of the Department or the Coast Guard, the Department finds good cause under 5 U.S.C. 553(d)(3) for the final rule to be effective on the date of publication in the Federal Register.

Regulatory Process Matters

Regulatory Assessment

This rulemaking is a nonsignificant regulatory action under section 3(f) of Executive Order 12866 and has not been reviewed by the Office of Management and Budget under that Order. This rule is also not significant under the regulatory policies and procedures of the Department of Transportation, 44 FR 11034.

This rule does not impose unfunded mandates or requirements that will have any impact on the quality of the human environment.

Small Business Impact

The Regulatory Flexibility Act of 1980, 5 U.S.C. 601 et seq., was enacted by Congress to ensure that small entities are not unnecessarily and disproportionately burdened by government regulations. The Act requires agencies to review proposed regulations that may have a significant economic impact on a substantial number of small entities. The Department certifies that this rule is not expected to have a significant economic impact on a substantial number of small entities. Therefore, an Initial Regulatory Flexibility Analysis has not been performed.

Collection of Information

This rule calls for no new collection of information under the Paperwork Reduction Act of 1995 (44 U.S.C. 3501-3520).

Federalism Assessment

This proposed rule has been reviewed in accordance with the principles and criteria contained in Executive Order 13132 dated August 4, 1999, and it is determined that this action does not have a substantial direct effect on the States, or the relationship between the national government and the States, or on the distribution of power and responsibilities among the various levels of government. This rule will not limit the policymaking discretion of the State nor preempt any State law or regulation.

List of Subjects in 49 CFR Part 1

Authority delegations (Government agencies), Organization and functions (Government agencies).

For the reasons discussed in the preamble, the Office of the Secretary amends 49 CFR Part 1 as follows:

PART 1—[AMENDED]

1. The authority citation for Part 1 continues to read as follows:

Authority: 49 U.S.C. 322; 46 U.S.C. 2104(a); 28 U.S.C. 2672; 31 U.S.C. 3711(a)(2); Pub. L. No. 101-552, 104 Stat. 2736; Pub. L. No. 106-159, 113 Stat. 1748.

2. In section 1.46, revise paragraph (rr) and add new paragraph (vvv) to read as follows:

§ 1.46 Delegations to Commandant of the Coast Guard.

* * * * *

(rr) Carry out the functions and exercise the authority vested in the Secretary by 10 U.S.C. 1588 to accept voluntary services.

* * * * *

(vvv) Carry out the functions and exercise the authority vested in the Secretary by 10 U.S.C. 1059 to establish a program to pay monthly transitional compensation to dependents of Coast Guard members who were separated for dependent abuse offenses.

* * * * *

Issued on: July 6, 2002.
Norman Y. Mineta,
Secretary of Transportation.

[FR Doc. 02-21029 Filed 8-23-02; 8:45 am]

BILLING CODE 4910-62-P